DEPARTMENT OF COMMERCE

International Trade Administration

[A-427-822]

Notice of Amended Preliminary Determination of Sales at Less Than Fair Value: Certain Cold-Rolled Carbon Steel Flat Products from France

AGENCY: Import Administration, International Trade Administration, Department of Commerce.

ACTION: Notice of Amended Preliminary Determination of Sales at Less Than Fair Value.

EFFECTIVE DATE: May 29, 2002.

FOR FURTHER INFORMATION CONTACT: Angelica Mendoza, John Drury or Abdelali Elouaradia at (202) 482-3019, (202) 482-0195 and (202) 482-1374, respectively; AD/CVD Enforcement, Office 8, Group III, Import Administration, International Trade Administration, U.S. Department of Commerce, 14th Street and Constitution Avenue, NW, Washington, DC 20230.

SUPPLEMENTARY INFORMATION:

Applicable Statute and Regulations

Unless otherwise indicated, all citations to the Tariff Act of 1930, as amended (“the Act”), are references to the provisions effective January 1, 1995, the effective date of the amendments made to the Act by the Uruguay Round Agreements Act (“URAA”). In addition, unless otherwise indicated, all citations to the Department of Commerce (“Department”) regulations are to 19 CFR part 351 (April 2001).

Amendment of Preliminary Determination

The Department of Commerce (the Department) is amending the preliminary determination in the antidumping investigation of certain cold-rolled carbon steel flat products from France. This amended preliminary determination results in a revised antidumping rate for the single respondent in this case.

Scope of Investigations

For purposes of this investigation, the products covered are certain cold-rolled (cold-reduced) flat-rolled carbon-quality steel products. For a full description of the scope of this investigation, as well as a complete discussion of all scope exclusion requests submitted in the context of the on-going cold-rolled steel investigations, please see the “Scope Appendix” attached to the Notice of Preliminary Determination of Sales at Less Than Fair Value: Certain Cold-Rolled Carbon Steel Flat Products from Argentina, 67 FR 31204 (May 9, 2002).

Background

On May 4, 2001, the Department issued its negative preliminary determination in this proceeding. See Notice of Preliminary Determination of Sales at Not Less than Fair Value: Certain Cold-Rolled Carbon Steel Flat Products from France, 67 FR 31204 (May 9, 2002) (“Preliminary Determination”). That preliminary determination covered the following manufacturer/exporter, Usinor Group (“Usinor”).

On May 6, 2002, the Department received from the petitioners a timely allegation of ministerial errors in the preliminary determination.¹ The petitioners alleged that the Department made a number of ministerial errors. The alleged ministerial errors include:

¹ The petitioners in this investigation are Bethlehem Steel Corporation, LTV Steel Company, National Steel Corporation, Nucor Corporation, Steel Dynamics, Inc., WCI Steel, Inc., Weirton Steel Corporation, and United States Steel Corporation.

the creation of a temporary, rather than permanent, dataset in the Model Match program;

use of multiple producers' costs rather than a single, weighted-average cost for each product;

exclusion of certain United States sales from the margin calculation;

exclusion of certain billing adjustments to revenue;

reintroduction, into the home market dataset, of sales made to affiliated resellers that failed the arm's-length test;

• failure to correct warranty expenses in the home market;

• failure to implement weighted-average movement expenses;

• failure to use the proper customer codes in the arm's-length test program;

• improper specification of the sorting macro for U.S. variables (“USBYVARS”);

• failure to exclude as intended all sales between affiliates in the model match and arm's-length test programs where downstream sales were reported;

• improper calculation of credit for all non-cash sales;

• failure to exclude all home market commissions paid to affiliates;

• failure to exclude certain rebates;

• failure to correct the cost of minor inputs in the cost of production;

• failure to convert certain adjustments stated in Euros to U.S. dollars;

• failure to correct U.S. sales with respect to non-prime merchandise; and

• improper merger of COP and home market data files.

See letters from petitioners alleging ministerial errors in the preliminary determination (May 6, 2002).

On May 6, 2002, the respondent alleged one clerical error. The respondent stated, as did the petitioners, that the model match program created a temporary, rather than a permanent, dataset.

Significant Ministerial Error

A significant ministerial error is defined as an error, the correction of which, singly or in combination with other errors, would result in (1) a change of at least five absolute percentage points in, but not less than 25 percent of, the weighted-average dumping margin calculated in the original (erroneous) preliminary determination; or (2) a difference between a weighted-average dumping margin of zero or de minimis and a weighted-average dumping margin of greater than de minimis or vice versa. See 19 CFR 351.224(g).

In this instance, the original preliminary determination resulted in a weighted-average margin which was de minimis. Implementation of the corrections of the ministerial errors results in a weighted-average dumping margin which is greater than de minimis, thus meeting the requirements under 19 CFR 351.224(g)(2).

Amended Determination

The Department has reviewed its preliminary calculations and agrees that most of the items identified as ministerial errors do constitute ministerial errors within the meaning of 19 CFR 351.224(f). For a detailed analysis and the Department's determinations, see the May 15, 2002 Memorandum to Richard O. Weible from Angelica Mendoza regarding Ministerial Error Allegations on file in room B-099 of the main Commerce building. As a result of our analysis of petitioners' and respondent's allegations, we are amending our preliminary determination to revise the antidumping rates in accordance with 19 CFR 351.224(e). Specifically, we corrected all of the points raised by all parties with the following exception:

we did not include freight revenue as a billing adjustment in the definition of home market revenue for sales by Etilam.

In addition to the ministerial errors reported by petitioners and respondent, the Department separately identified and corrected another ministerial error. With respect to revised home market imputed credit expense calculations for sales with missing payment dates, we inadvertently defined the billing adjustment variable (“BILADJH”) after the programming code specifying the revised credit calculations, thereby omitting this adjustment from the credit expense calculation. See the analysis memorandum.

Suspension of liquidation will be revised in accordance with section 733(d) of the Act.

The following weighted-average dumping margins apply:

Manufacturer/exporter | Margin (percent)
Usinor Group | 5.17
All Others | 5.17

The all others rate has been amended, and applies to all entries of the subject merchandise except for entries from exporters/producers that are identified individually above.

Suspension of Liquidation

In accordance with section 733(d)(2) of the Act, we are directing the U.S. Customs Service (“Customs”) to suspend liquidation of all imports of certain cold-rolled carbon steel flat products from France entered, or withdrawn from warehouse, for consumption on or after the date of publication of this amended preliminary determination in the Federal Register. Customs shall require a cash deposit or the posting of a bond equal to the weighted-average amount by which the normal value exceeds the export price, as indicated in the chart above. These suspension of liquidation instructions will remain in effect until further notice.

This determination is issued and published pursuant to section 733(f) and 777(i)(1) of the Tariff Act.

Dated: May 21, 2002
Faryar Shirzad,
Assistant Secretaryfor Import Administration.

[FR Doc. 02-13390 Filed 5-28-02; 8:45 am]

BILLING CODE 3510-DS-S